DEPARTMENT OF AGRICULTURE

Office of the Secretary

National Agricultural Research, Extension, Education, and Economics Advisory Board Notice of Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet March 28-29, 2012. The public may file written comments before or up to two weeks after the meeting with the contact person.

ADDRESSES: The meeting will take place at the Texas A&M AgriLife, Agriculture and Life Sciences Building, 600 John Kimbrough Boulevard, College Station, Texas 77843. Written comments from the public may be sent to the Contact Person identified in this notice at: The National Agricultural Research, Extension, Education, and Economics Advisory Board Office, Room 3901 South Building, United States Department of Agriculture, STOP 0321, 1400 Independence Avenue SW., Washington, DC 20250-0321.

FOR FURTHER INFORMATION CONTACT: J. Robert Burk, Executive Director or Shirley Morgan-Jordan, Program Support Coordinator, National Agricultural Research, Extension, Education, and Economics Advisory Board; telephone: (202) 536-6547; fax: (202) 720-6199; or email: Robert.Burk@usda.gov or Shirley.Morgan@ars.usda.gov.

SUPPLEMENTARY INFORMATION: On Wednesday, March 28, 2012, from 8 a.m.-5 p.m., the full Advisory Board meeting will begin with introductory remarks provided by the Chair of the Advisory Board and the USDA Under Secretary for Research, Education, and Economics. Throughout the day remarks will be made by internal and external USDA sources relevant to the Board's role in advising the Department on subjects relevant to Research, Education, and Economics. An evening reception will be held from 6 p.m.-8 p.m. with guest speakers presenting remarks on a similar subject. Specific items of discussion will include discussion panels related to the structure and function of Cooperative Extension across the nation, opportunities for the future of Cooperative Extension, and regular Board business.

On Thursday, March 29, 2012, the Board will reconvene at 8 a.m. to discuss initial recommendations resulting from the meeting, future planning for the Board, and to finalize Board business. The Board Meeting will adjourn by 12 p.m. (noon).

Opportunity for public comment will be offered each day of the meeting. All meetings are open to the public. Written comments by attendees or other interested stakeholders will be welcomed for the public record before and up to two weeks following the Board meeting (by close of business Thursday, April 12, 2012). All statements will become a part of the official record of the National Agricultural Research, Extension, Education, and Economics Advisory Board and will be kept on file for public review in the Research, Extension, Education, and Economics Advisory Board Office.

Done at Washington, DC, this 14th day of February 2012.
Ann Bartuska,
Deputy Under Secretary, Research, Education, and Economics.

[FR Doc. 2012-4351 Filed 2-23-12; 8:45 am]

BILLING CODE 3410-03-P